DEPARTMENT OF COMMERCE

International Trade Administration

Overseas Trade Missions; Invitation to Participate

AGENCY: International Trade Administration, Department of Commerce.

ACTION: Notice.

SUMMARY: The Department of Commerce invites U.S. companies to participate in the following overseas trade missions to be held between February and August 2000. For a more complete description of the trade mission, obtain a copy of the mission statement from the Project Officer indicated below. The recruitment and selection of private sector participants for these missions will be conducted according to the Statement of Policy Governing Department of Commerce Overseas Trade Missions announced by Secretary Daley on March 3, 1997.

Hotel and Recreation Equipment Trade Mission, Santo Domingo and Puerto Plata, Dominican Republic, February 8-11, 2000. Recruitment closes January 31, 2000.

For further information contact: Sheila de Andujar, Trade Event Manager, C.S. Santo Domingo, American Embassy, Unit 5515, APO AA 34041, Tel: 809-221-2171 ext. 408, Fax: 809-688-4838 E-mail: sheila.andujar@mail.doc.gov.

Information Technology Dealmaker, Toronto, Canada, February 9-10, 2000. Recruitment closes January 31, 2000.

For further information contact: Viktoria Palfi, Project Manager, U.S. Commercial Service, Toronto, 480 University Avenue, Suite 602, Toronto, ON M5G 1V2, Tel: 416-595-5412, ext. 229, Fax: 416-595-5419, E-mail: viktoria.palfi@mail.doc.gov.

Corporate Executive Office Program at Meditech Asia Show, Bangkok, Thailand, March 1-4, 2000. Recruitment closes February 15, 2000.

For further information contact: Kellie Holloway, Phoenix EAC, 901 N. Central Avenue, Suite 970, Phoenix, AR 85012, Tel: 602-640-2513, ext. 16, Fax: 602-640-2518. E-mail: Kelly.Holloway@mail.doc.gov.

Manufacturing Matchmaker India, New Delhi, Chennai, Mumbai, and Pune, India, April 3-11, 2000. Recruitment closes April 11, 2000.

For further information contact: Sam Dhir, U.S. Department of Commerce, Tel: 202-482-4756, Fax: 202-482-0178, E-mail: Sam.Dhir@mail.doc.gov.

Telecommunications Matchmaker Trade Delegation, Madrid, Spain and Rome, Italy, April 10-15, 2000. Recruitment closes February 28, 2000.

For further information contact: Molly Costa, U.S. Department of Commerce, Tel: 202-482-0693, Fax: 202-482-0178, E-mail: Molly.Costa@mail.doc.gov.

Women In Trade Business Development Mission, France and the Netherlands, May 7-12, 2000. Recruitment closes March 22, 2000.

For further information contact: Loretta Allison, U.S. Department of Commerce, Tel: 202-482-5479, Fax; 202-482-1999, E-mail: Loretta_Allison@ita.doc.gov.

U.S. Information Technology Trade Mission to Far East Asia, Taipei, Taiwan, Seoul and Pusan, South Korea, June 11-17, 2000. Recruitment closes April 15, 2000.

For further information contact: Tu-Trang Phan, U.S. Department of Commerce, Tel: 202-482-0480, Fax: 202-482-3002, E-mail Tu-Trang_Phan@ita.doc.gov.

Telecommunication Trade Mission to Chile and Argentina, June 18-23, 2000. Recruitment closes May 31, 2000.

For further information contact: Richard Paddock, U.S. Department of Commerce, Tel: 202-482-5235, Fax: 202-482-5834, E-mail Richard_Paddock@ita.doc.gov.

Medical Devices and Biotechnology Trade Mission to Australia, Melbourne, Sydney, and Brisbane, June 25-30, 2000. Recruitment closes May 5, 2000.

For further information contact: Bart Meroney, U.S. Department of Commerce, Tel: 202-482-5014, Fax: 202-482-0975, E-mail: Bart_Meroney@ita.doc.gov.

Medical Device Trade Mission, Taiwan, Malaysia, and Singapore, August 19-31, 2000. Recruitment closes June 30, 2000.

For further information contact: Steven R. Harper. U.S. Department of Commerce, Tel: 202-482-2991, Fax: 202-482-0975, E-mail: Steven_Harper@ita.doc.gov.

For further information contact: Reginald Beckham, U.S. Department of Commerce. Tel: 202-482-5478, Fax: 202-482-1999.

Dated: January 19, 2000.
Tom Nisbet,
Director, Promotion Planning and Support Division, Office of Export Promotion Coordination.

[FR Doc. 00-1705 Filed 1-24-00; 8:45 am]

BILLING CODE 3510-DR-P